DEPARTMENT OF LABOR

Occupational Safety and Health Administration

29 CFR Part 1926

[Docket No. H040]

RIN 1218-0184

Methylenedianiline in Construction; Correction

AGENCY: Occupational Safety and Health Administration (OSHA), Labor.

ACTION: Final rule; correction.

SUMMARY: OSHA is revising the regulatory text of the Methylenedianiline (MDA) Standard for Construction to correct a cross reference to OSHA's standard on emergency action plans and fire prevention plans.

DATES: This final rule becomes effective January 5, 2005.

FOR FURTHER INFORMATION CONTACT: George Shaw, Acting Director, OSHA Office of Communication, Room N-3647, U.S. Department of Labor, 200 Constitution Avenue, NW., Washington, DC 20210; Telephone: (202) 693-1999.

SUPPLEMENTARY INFORMATION: On November 2002, the Agency published a final rule entitled “Exit Routes, Emergency Action Plans, and Fire Prevention Plans (67 FR 67949).” This action was taken in part to clarify and make consistent provisions regrading emergency action plans and fire prevention plans in several general industry standards. In that final rule, OSHA separated the requirements for emergency action plans and fire protection plans into two separate sections, 1910.38 and 1910.39, respectively.

Several general industry health standards were revised at that time to reflect this change. The general industry standard for MDA (29 CFR 1910. 1050(d)(1)(iii)) was revised to read as follows: “The plan shall specifically include provisions for alerting and evacuating affected employees as well as elements prescribed in 29 CFR 1910.38 and 29 CFR 1910.39, ‘Emergency actions plans’ and ‘Fire prevention plans,’ respectively.” The same provision in the MDA Standard for Construction (29 CFR 1926.60) was not similarly revised at that time. Since the Agency intended to revise all health standards to reflect this change, OSHA is accordingly correcting the MDA Construction Standard to make it consistent with the revised language in the other health standards. In making this correction, OSHA maintains the safety and health protection provided to employees without increasing the regulatory burden on employers.

List of Subjects in 29 CFR Part 1926

Chemicals, Construction industry, Diving, Electric power, Fire prevention, Gases, Government Contracts, Hazardous substances. Health records, Lead, Motor vehicle safety, Noise control, Occupational safety and health, Radiation protection. Reporting and recordkeeping requirements, Signs and symbols.

Therefore, OSHA amends 29 CFR part 1926 as follows:

PART 1926—[CORRECTED]

Subpart D—Occupational Health and Environmental Controls

1. The authority citation for part 1926 subpart D is revised to read as follows:

Authority: Sec. 107, Contract Work Hours and Safety Standards Act (40 U.S.C. 333); secs. 4, 6, and 8, Occupational Safety and Health Act of 1970 (29 U.S.C. 653, 655, 657; Secretary of Labor's Order No. 12-71 (36 FR 8754), 8-76 (41 FR 25059), 9-83 (48 FR 35736), 6-96 (62 FR 111), or 5-2002 (67 FR 65008), as applicable, and 29 CFR part 1911.

2. In § 1926.60, paragraph (e)(1)(iii) is revised to read as follows:

§ 1926.60 Methylenedianiline

(e) * * *

(1) * * *

(iii) The plan shall specifically include provisions for alerting and evacuating affected employees as well as the applicable elements prescribed in 29 CFR 1910.38 and 29 CFR 1910.39, “Emergency action plans” and “Fire prevention plans,” respectively.

* * * * *

Authority and Signature

John L. Henshaw, Assistant Secretary of Labor for Occupational Safety and Health, U.S. Department of Labor, 200 Constitution Ave., NW., Washington, DC 20210, directed the preparation of this notice under the authority granted by: Sections 4, 6(b), 8(c), and 8(g) of the Occupational Safety and Health Act of 1970 (29 U.S.C. 653, 655, 657); section 107 of the Contract Work Hours and Safety Standards Act (the Construction Safety Act) (40 U.S.C. 333); section 41, the Longshore and Harbor Worker's Compensation Act (33 U.S.C. 941); Secretary of Labor's Order No. 5-2002 (67 FR 65008); and 29 CFR part 1911.

Signed at Washington, DC, this 18 day of November 2004.
John L. Henshaw,
Assistant Secretary of Labor.

[FR Doc. 04-26739 Filed 12-3-04; 8:45 am]

BILLING CODE 4510-26-M